DEPARTMENT OF ENERGY

Federal Energy Regulatory Commission

[Project No. 2336-094]

Georgia Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2336-094.

c. Date filed: January 3, 2022.

d. Applicant: Georgia Power Company.

e. Name of Project: Lloyd Shoals Hydroelectric Project (Lloyd Shoals Project or project).

f. Location: On the Ocmulgee River, in Butts, Henry, Jasper, and Newton Counties, Georgia. The project does not occupy Federal lands.

g. Filed Pursuant to: Federal Power Act 16 U.S.C. 791 (a)-825(r).

h. Applicant Contact: Ms. Courtenay R. O'Mara, P.E., Hydro Licensing and Compliance Supervisor, Southern Company Generation, 241 Ralph McGill Boulevard NE, BIN 10193, Atlanta, Georgia 30308-3374; 404-506-7219 or cromara@southernco.com.

i. FERC Contact: Navreet Deo at (202) 502-6304, or navreet.deo@ferc.gov.

j. Deadline for filing motions to intervene and protest, comments, recommendations, preliminary terms and conditions, and prescriptions: 60 days from the issuance date of this notice; reply comments are due 105 days from the issuance date of this notice.

The Commission strongly encourages electronic filing. Please file motions to intervene and protests, comments, recommendations, preliminary terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2336-094.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Lloyd Shoals Project consists of: (1) A 4,750-acre impoundment, known as Lake Jackson, with a gross storage capacity of 107,000 acre-feet at a normal maximum pool elevation of 530 feet Plant Datum (PD); ¹ (2) a 1,600-foot-long, 105-foot-high concrete gravity dam that consists of: (a) A 143-foot-long non-overflow section; (b) a 198-foot-long powerhouse intake section with six, 12-foot-high by 12-foot-wide octagonal water passages used to supply the turbine-generating units; (c) a 728.5-foot-long spillway section that includes: (i) A 30-foot-wide section containing a 19-foot-high, 12-foot-wide trash gate structure; (ii) a 420-foot-wide section with 5-foot-high Obermeyer gates; ² and (iii) a 180-foot-wide section with 2-foot-high Obermeyer gates; and (d) a 530-foot-long earth embankment tie-in; (3) a concrete and brick powerhouse that contains six, horizontal Francis turbine-generator units, each rated at 3.0-megawatts (MW), for a total authorized installed capacity of 18-MW; (4) a 2,100-foot-long saddle dike located approximately 3,000 feet upstream of the east end of the main dam; (5) a 500-foot-long auxiliary spillway, topped with 10-foot-high flashboards, located 900 feet southwest of the main dam, that includes a 560-foot-long, 6-foot-high sacrificial earth embankment; (6) two, 2.3-kilovolt generator leads that connect the powerhouse to a substation located at the west dam abutment; and (7) appurtenant facilities. Georgia Power does not propose any modifications to the existing project facilities.

¹ Plant Datum equals mean sea level elevation (North American Vertical Datum of 1988; NAVD88) plus 0.45 feet.

² The Obermeyer gate system consists of a row of steel gate panels supported on their downstream side by inflatable air bladders. By controlling pressure in the air bladders (i.e. fully inflate or deflate), the reservoir elevation maintained by the gate system can be adjusted.

The Lloyd Shoals Project operates in a modified run-of-river mode to generate power during periods of peak demand. The reservoir elevation is maintained between 530 feet PD and 527 feet PD year-round, excluding planned drawdowns and drought. The project provides a continuous minimum flow of 400 cubic feet per second, or inflow, whichever is less, to the Ocmulgee River for the protection and enhancement of fish and wildlife resources. Georgia Power does not propose any changes to existing project operations.

Georgia Power proposes environmental measures to improve and enhance water quality, aquatic habitat, and recreation facilities. Georgia Power also proposes plans for the protection of shoreline resources and historic properties.

m. A copy of the application may be viewed on the Commission's website at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural schedule: The application will be processed according to the following schedule. Revisions to the schedule will be made as appropriate.

Milestone | Target date
Comments, Recommendations, Preliminary Terms and Conditions, and Preliminary Prescriptions Due | April 2022.
Reply Comments Due | June 2022.
Commission Issues Environmental Document | October 2022.
Comments on Environmental Document Due | November 2022.

p. Final amendments to the application must be filed with the Commission no later than 30 days from the issuance date of this notice.

q. The applicant must file no later than 60 days following the date of issuance of this notice: (1) A copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

Dated: May 26, 2022.
Kimberly D. Bose,
Secretary.

[FR Doc. 2022-11867 Filed 6-2-22; 8:45 am]

BILLING CODE 6717-01-P